ENVIRONMENTAL PROTECTION AGENCY

[EPA-HQ-OECA-2013-0339; FRL—10002-40-OMS]

Information Collection Request Submitted to OMB for Review and Approval; Comment Request; NESHAP for Boat Manufacturing (Renewal)

AGENCY: Environmental Protection Agency (EPA).

ACTION: Notice.

SUMMARY: The Environmental Protection Agency (EPA) has submitted an information collection request (ICR), NESHAP for Boat Manufacturing (EPA ICR Number 1966.07, OMB Control Number 2060-0546) to the Office of Management and Budget (OMB) for review and approval in accordance with the Paperwork Reduction Act. This is a proposed extension of the ICR, which is currently approved through January 31, 2020. Public comments were previously requested, via the Federal Register, on May 6, 2019 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before December 27, 2019.

ADDRESSES: Submit your comments, referencing Docket ID Number EPA-HQ-OECA-2013-0339, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person at the EPA Docket Center, WJC West, Room 3334, 1301 Constitution Ave. NW, Washington, DC. The telephone number for the Docket Center is 202-566-1744. For additional information about EPA's public docket, visit: http://www.epa.gov/dockets.

Abstract: The National Emission Standards for Hazardous Air Pollutants (NESHAP) for Boat Manufacturing (40 CFR part 63, subpart VVVV) apply to both existing and new boat manufacturing facilities that are a major source of hazardous air pollutant (HAP) emissions. This regulation covers resin and gel coat operations at fiberglass boat manufacturers, paint and coating operations at aluminum boat manufacturers, and carpet and fabric adhesive operations at all boat manufacturers. Air toxics are released during application and curing from the resins, gel coats, adhesives, coating, and solvents used in boat manufacturing. New facilities include those that commenced construction or reconstruction after the date of proposal. The EPA proposed revised standards to the NESHAP for Boat Manufacturing on May 17, 2019 (84 FR 22642); however, the proposed amendments have not been finalized; and therefore, the `Burden' reflected in this ICR does not consider `burden' from the proposed amendments, but is based on the existing standards.

This information is being collected to assure compliance with 40 CFR part 63, subpart VVVV. In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NESHAP.

Form Numbers: None.

Respondents/Affected Entities: Boat manufacturing facilities.

Respondent's Obligation To Respond: Mandatory (40 CFR part 63, subpart VVVV).

Estimated Number of Respondents: 93 (total).

Frequency of Response: Initially, occasionally and semiannually.

Total Estimated Burden: 21,100 hours (per year). Burden is defined at 5 CFR 1320.3(b).

Total Estimated Cost: $2,450,000 (per year), which includes $0 for annualized capital and/or operation & maintenance costs.

Changes in the Estimates: The decrease in burden from the most-recently approved ICR is due to a decrease in the number of respondents subject to these standards. This decrease is not due to any program changes. This ICR, by in large, reflects the on-going burden and costs for existing facilities. Additionally, this ICR removes operation and maintenance costs which were included in the most-recently approved ICR for one source using add-on controls. Based on a recent inventory, at this time all facilities are estimated to comply with the rule using compliant materials and no facilities operate add-on controls.

Courtney Kerwin,
Director, Regulatory Support Division.

[FR Doc. 2019-25760 Filed 11-26-19; 8:45 am]

BILLING CODE 6560-50-P